DEPARTMENT OF THE INTERIOR

Fish and Wildlife Service

[FWS-R4-ES-2016-N063; FXES1112040000-167-FF04EF2000]

Endangered and Threatened Wildlife and Plants; Receipt of Application for Incidental Take Permit; Availability of Proposed Low-Effect Habitat Conservation Plan and Associated Documents; Indian River County, FL

AGENCY: Fish and Wildlife Service, Interior.

ACTION: Notice of availability; request for comment/information.

SUMMARY: We, the Fish and Wildlife Service (Service), announce the availability of an incidental take permit (ITP) application and a Habitat Conservation Plan (HCP). Remington Stewart, LLP (applicant), requests an ITP under the Endangered Species Act of 1973, as amended (Act). The applicant's HCP describes the minimization and mitigation measures proposed to address the effects of the project on the Florida scrub-jay. We invite written comments on the ITP application and HCP.

DATES: Written comments on the ITP application and HCP should be sent to the South Florida Ecological Services Office (see ADDRESSES) and should be received on or before May 16, 2016.

ADDRESSES: See the SUPPLEMENTARY INFORMATION section for information on how to submit your comments on the ITP application and HCP. You may obtain a copy of the ITP application and HCP by writing the South Florida Ecological Services Office, Attn: Permit number TE90853B-0, U.S. Fish and Wildlife Service, 1339 20th Street, Vero Beach, FL 32960-3559. In addition, we will make the ITP application and HCP available for public inspection by appointment during normal business hours at the above address.

FOR FURTHER INFORMATION CONTACT: Mr. Ted Martin, Wildlife Biologist, South Florida Ecological Services Office, Vero Beach, FL (see ADDRESSES); telephone: 772-562-3909, extension 232.

SUPPLEMENTARY INFORMATION: We announce the availability of an ITP application and HCP. Remington Stewart, LLP (applicant), requests an ITP under the Act. The applicant proposes to construct two commercial buildings with associated infrastructure (project) at the southwest corner of US-1 and Jackson Street in Sebastian, Florida, and more specifically at: Latitude 27°49′38.44″ N. and longitude −80°28′40.12″ W.

Site preparation and construction will result in the permanent alteration of 2.21 acres of suitable Florida scrub-jay (Aphelocoma coerulescens) (scrub-jay) foraging and caching habitat that is within an occupied scrub-jay territory. The applicant's HCP describes the minimization and mitigation measures proposed to address the effects of the project on the scrub jay.

Applicant's Proposed Project

We received an application from the applicant for an ITP, along with a proposed HCP. The applicant requests a 10-year permit under section 10(a)(1)(B) of the Act (16 U.S.C. 1531 et seq.). The applicant proposes to construct two commercial buildings with associated infrastructure (project).

Site preparation and construction will result in the permanent alteration of 2.21 acres of suitable Florida scrub-jay (Aphelocoma coerulescens) (scrub-jay) foraging and caching habitat that is within an occupied scrub-jay territory.

The applicant proposes the contribution of $126,676.56 to The Nature Conservancy (TNC) to satisfy mitigation requirements. A receipt from TNC will be provided to the Service.

Our Preliminary Determination

The Service has made a preliminary determination that the applicant's project, including the mitigation measures, will individually and cumulatively have a minor or negligible effect on the species covered in the HCP. Therefore, our proposed issuance of the requested incidental take permit qualifies as a categorical exclusion under the National Environmental Policy Act, as provided by Department of the Interior implementing regulations in part 46 of title 43 of the Code of Federal Regulations (43 CFR 46.205, 46.210, and 46.215). We base our determination that issuance of the ITP qualifies as a low-effect action on the following three criteria: (1) Implementation of the project would result in minor or negligible effects on federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. The applicants' proposed project qualifies as a “low-effect” project, as more fully explained in our environmental action statement and associated Low Effect Screening Form. This preliminary determination may be revised based on our review of public comments that we receive in response to this notice.

Public Comment

If you wish to comment on the ITP application and HCP, you may submit comments by any one of the following methods:

Email: TedMartin@fws.gov. Use “Attn: Permit number TE90853B-0” as your message subject line.

Fax: Ted Martin, (772) 562-4288, Attn: Permit number TE90853B-0.

U.S. mail: Ted Martin, Wildlife Biologist, South Florida Ecological Services Field Office, Attn: Permit number TE90853B-0, U.S. Fish and Wildlife Service, 1339 20th Street, Vero Beach, FL 32960-3559.

In-person drop-off: You may drop off information during regular business hours at the above office address.

Before including your address, phone number, email address, or other personal identifying information in your comments, you should be aware that your entire comment—including your personal identifying information—may be made publicly available at any time. While you can ask us in your comment to withhold your personal identifying information from public review, we cannot guarantee that we will be able to do so.

Next Steps

The Service will evaluate the HCP and comments submitted thereon to determine whether the application meet the requirements of section 10(a) of the Act. The Service will also evaluate whether issuance of the section 10(a)(1)(B) ITP complies with section 7 of the Act by conducting an intra-Service section 7 consultation. The results of this consultation, in combination with the above findings, will be used in the final analysis to determine whether or not to issue the ITP. If it is determined that the requirements of the Act are met, the ITP will be issued.

Authority

We provide this notice under Section 10 of the Endangered Species Act (16 U.S.C. 1531 et seq.) and NEPA regulations (40 CFR 1506.6).

Dated: April 7, 2016.
Roxanna Hinzman,
Field Supervisor, South Florida Ecological Services Office.

[FR Doc. 2016-08727 Filed 4-14-16; 8:45 am]

BILLING CODE 4310-55-P